DEPARTMENT OF COMMERCE

Bureau of Industry and Security

Agency Information Collection Activities; Submission to the Office of Management and Budget (OMB) for Review and Approval; Comment Request; Inclusions to the Section 232 National Security Adjustments to Imports

AGENCY: Bureau of Industry and Security, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 30, 2025.

ADDRESSES: Interested persons are invited to submit comments by email to Nancy Kook, IC Liaison, Bureau of Industry and Security, at PRA@bis.doc.gov or to PRAcomments@doc.gov. Please reference OMB Control Number 0694-0146 in the subject line of your comments. Do not submit Confidential Business Information or otherwise sensitive or protected information.

FOR FURTHER INFORMATION CONTACT: Requests for additional information or specific questions related to collection activities should be directed to Nancy Kook, IC Liaison, Bureau of Industry and Security, phone 202-482-2440 or by email at PRA@bis.doc.gov.

SUPPLEMENTARY INFORMATION:

I. Abstract

Section 232 of the Trade Expansion Act of 1962 (19 U.S.C. 1862) authorizes the Secretary of Commerce (Secretary) to conduct comprehensive investigations to determine the effects of imports of an article on the national security of the United States. Such investigations can be initiated by an application by an interested party, a request from the head of any department or agency, or self-initiated by the Secretary. Once an investigation is initiated, the Secretary has 270 days to submit a report to the President on whether the importation of the article in question is occurring in such quantities or under such circumstances as to threaten to impair the national security of the United States. The President then has 90 days to determine whether to concur with the findings, and, if necessary, take action to “adjust the imports of an article and its derivatives” under Section 232 to address the identified threat to the national security of the United States.

Presidential Proclamations 10895 and 10896 of February 2025 required the Secretary of Commerce (the Secretary) to establish within ninety days a process for including additional derivative aluminum and steel articles within the scope of the ad valorem Section 232 Steel and Aluminum Tariffs established in Presidential Proclamation 9704 and Presidential Proclamation 9705 of March 2018, as subsequently modified. Proclamations 10895 and 10896 authorize the Secretary to include additional derivative steel or aluminum articles within the scope of the tariffs unilaterally, or at the request of a producer (or an industry association representing one or more such producers) of steel or aluminum articles or derivative articles within the United States. Proclamations 10895 and 10896 further state that submissions must establish that imports of a derivative article have increased in a manner that threatens to impair the national security of the United States or otherwise undermine the objectives set forth in the 2018 Section 232 Investigations or any associated Presidential Proclamations.

II. Method of Collection

Electronically.

III. Data

OMB Control Number: 0694-0146.

Form Number(s): N/A.

Type of Review: Regular submission, revision of a currently approved collection.

Affected Public: Business or other for-profit organizations.

Estimated Number of Respondents: 250.

Estimated Time per Response: 16 hours.

Estimated Total Annual Burden Hours: 4,000 hours.

Estimated Total Annual Cost to Public: $176,000.

Respondent's Obligation: Voluntary.

Legal Authority: Section 232 of the Trade Expansion Act of 1962, Presidential Proclamations 10895 and 10896 of February 10, 2025.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-14641 Filed 7-31-25; 8:45 am]

BILLING CODE 3510-33-P